DEPARTMENT OF THE INTERIOR

Fish and Wildlife Service

FWS-HQ-MB-2014-N269; 91400-5110-0000; 91400-9410-0000]

Multistate Conservation Grant Program; Priority List and Approval for Conservation Projects

AGENCY: Fish and Wildlife Service, Interior.

ACTION: Notice of receipt of priority list and approval of projects.

SUMMARY: We, the U.S. Fish and Wildlife Service (FWS), announce the fiscal year 2014 priority list of wildlife and sport fish conservation projects from the Association of Fish and Wildlife Agencies (AFWA). As required by the Wildlife and Sport Fish Restoration Programs Improvement Act of 2000, AFWA submits a list of projects to us each year to consider for funding under the Multistate Conservation Grant program. We have reviewed the list and have awarded all the grants from the list.

ADDRESSES: John C. Stremple, Multistate Conservation Grants Program Coordinator, Wildlife and Sport Fish Restoration Program, U.S. Fish and Wildlife Service, 4401 North Fairfax Drive, Mail Stop WSFR-4020, Arlington, VA 22203.

FOR FURTHER INFORMATION CONTACT: John C. Stremple, at the above address, or at (703) 358-2156 (phone) or John_Stremple@fws.gov (email).

SUPPLEMENTARY INFORMATION: The Wildlife and Sport Fish Restoration Programs Improvement Act of 2000 (Improvement Act, Pub. L. 106-408) amended the Pittman-Robertson Wildlife Restoration Act (16 U.S.C. 669 et seq.) and the Dingell-Johnson Sport Fish Restoration Act (16 U.S.C. 777 et seq.) and established the Multistate Conservation Grant Program. The Improvement Act authorizes us to award grants of up to $3 million annually from funds available under each of the restoration acts, for a total of up to $6 million annually. Projects can be funded from both funds depending on the project activities. We may award grants to projects from a list of priority projects recommended to us by the Association of Fish and Wildlife Agencies. The FWS Director, exercising the authority of the Secretary of the Interior, need not fund all projects on the list, but all projects funded must be on the list.

Grantees under this program may use funds for sport fisheries and wildlife management and research projects, boating access development, hunter safety and education, aquatic education, fish and wildlife habitat improvements, and other purposes consistent with the enabling legislation.

To be eligible for funding, a project must benefit fish and/or wildlife conservation in at least 26 States, in a majority of the States in any one FWS Region, or it must benefit a regional association of State fish and wildlife agencies. We may award grants to a state, a group of states, or one or more nongovernmental organizations. For the purpose of carrying out the National Survey of Fishing, Hunting, and Wildlife-Associated Recreation, we may award grants to the FWS, if requested by AFWA, or to a State or a group of states. Also, AFWA requires all project proposals to address its National Conservation Needs, which AFWA announces annually at the same time as its request for proposals. Further, applicants must provide certification that no activities conducted under a multistate conservation grant will promote or encourage opposition to regulated hunting or trapping of wildlife, or to regulated angling or taking of fish.

Eligible project proposals are reviewed and ranked by AFWA committees and interested nongovernmental organizations that represent conservation organizations, sportsmen's and women's organizations, and industries that support or promote fishing, hunting, trapping, recreational shooting, bowhunting, or archery. AFWA's Committee on National Grants recommends a final list of priority projects to the directors of State fish and wildlife agencies for their approval by majority vote. By statute, AFWA then must transmit the final approved list to the FWS for funding under the Multistate Conservation Grant program by October 1 of the fiscal year.

This year, we received a list of 15 projects recommended for funding by AFWA. We have awarded all of them for fiscal year 2014. The list follows:

Multistate Conservation Grant Program
(FY 2014 projects)
ID | Title | Submitter | PR funding ¹ | DJ funding ² | Total 2014 grant request
1 | Enhancing the Wildlife and Sport Fish Restoration Program and Industry Relations | Wildlife Management Institute | AFWA | $100,000 | $200,000
2 | State Fish and Wildlife Agency Technical Workgroup for the 2016 National Survey | AFWA | 45,600 | 45,600 | 91,200
3 | Coordination of the Industry, Federal and State Agency Coalition | AFWA | 92,850 | 92,850 | 185,700
4 | State Fish and Wildlife Agency Director Travel Administration and Coordination | AFWA | 64,075 | 64,075 | 128,150
5 | State Fish and Wildlife Agency Administration and Coordination | AFWA | 146,880 | 146,880 | 293,760
6 | To Enhance State Wildlife Agencies' Authority to Manage Wildlife Resources through Increased Understanding of International Treaties and Conventions | AFWA | 23,584 | 23,584 | 47,168
7 | Building Capacity to Assist the State Fish and Wildlife Agencies in Developing the Association's 2013 Legal Strategic Plan | AFWA | 94,887.97 | 94,887.96 | 189,775.93
8 | Increase Fishing License Buyers and Excise Tax Receipts through State-Industry Cooperative Research Into Churn Rates and First Time License Buyers | ASA | 0 | 243,800 | 243,800
9 | Increase Hunting License Buyers and Excise Tax Receipts Through State-Industry Cooperative Recruitment and Retention Research and Testing | NSSF | 508,600 | 0 | 508,600
10 | Maintaining State Agency Leadership in the Management of Fish and Wildlife through Revision/Implementation of State Wildlife Action Plans | AFWA | 209,070 | 209,070 | 418,140
11 | National Fish Habitat Action Plan Implementation and Promoting Strategic Fish Habitat Conservation through Regionally Coordinated Science and Collaboration | AFWA | 0 | 544,500 | 544,500
12 | Recruiting and Retaining Nontraditional Adult Participants into Fishing and Hunting through Targeted Marketing, Instruction, Mentoring and Social Reinforcement | Georgia Department of Natural Resources/SEAFWA | 138,500 | 138,500 | 277,000
13 | Development and Registration of Toxicants and Delivery Strategies for Controlling Wild Hogs | Texas Parks and Wildlife Department | 414,972 | 46,108 | 461,080
14 | Research for and Coordination for the 2016 National Survey of Fishing, Hunting, and Wildlife-Associated Recreation | U.S. FWS | 425,391 | 425,391 | 850,782
15 | Planning and Coordination of the 2016 National Survey of Fishing, Hunting, and Wildlife-Associated Recreation | NSSF | 49,228.38 | 49,228.39 | 98,456.77
|  |  | 2,313,638.35 | 2,224,474.35 | 4,538,112.70
¹ PR Funding: Pitman-Robertson Wildlife Restoration funds.
² DJ Funding: Dingell-Johnson Sport Fish Restoration funds.
ASA: American Sport Fishing Association.
ATA: Archery Trade Association.
SEAFWA: Southeast Association of Fish and Wildlife Agencies.
NSSF: National Shooting Sports Foundation.

Dated: February 4, 2014.
Rowan W. Gould,
Director, U.S. Fish and Wildlife Service.

[FR Doc. 2014-09416 Filed 4-24-14; 8:45 am]

BILLING CODE 4310-55-P